DEPARTMENT OF COMMERCE

National Oceanic and Atmospheric Administration

50 CFR Part 300

[Docket No. 150902807-5949-01]

RIN 0648-BE99

International Fisheries; Pacific Tuna Fisheries; Vessel Register Required Information, International Maritime Organization Numbering Scheme

AGENCY: National Marine Fisheries Service (NMFS), National Oceanic and Atmospheric Administration (NOAA), Commerce.

ACTION: Proposed rule; request for comments.

SUMMARY: NMFS proposes to implement a resolution adopted by the Inter-American Tropical Tuna Commission (IATTC) by requiring U.S. vessels, fishing for tuna and tuna-like species with a capacity equal to or greater than 100 gross resister tons (GRT), to have an International Maritime Organization (IMO) number. The IMO numbers will be included with information the United States sends to the IATTC for vessels authorized to fish in the IATTC Convention Area for tuna and tuna-like species, and will enable more effective tracking of vessels that may be engaging in illegal, unreported, and unregulated (IUU) fishing.

DATES: Comments must be submitted in writing by November 27, 2015. A public hearing will be held from 1 p.m. to 4 p.m. PST, on November 12, 2015, in Long Beach, CA.

ADDRESSES: You may submit comments on this proposed rule and supporting documents, including the Regulatory Flexibility Act certification and Regulatory Impact Review, identified by NOAA-NMFS-2015-0129, by any of the following methods:

• Electronic Submission: Submit all electronic public comments via the Federal e-Rulemaking Portal. Go to www.regulations.gov/#!docketDetail;D=NOAA-NMFS-2015-0129, click the “Comment Now!” icon, complete the required fields, and enter or attach your comments.

• Mail: Attn: Chris Fanning, NMFS West Coast Region, 501 W. Ocean Blvd., Suite 4200, Long Beach, CA 90802. Include the identifier “NOAA-NMFS-2015-0129” in the comments.

• Public hearing: The public is welcome to attend a public hearing and offer comments on this proposed rule from 1 p.m. to 4 p.m. PST, on November 12, 2015, at 501 W. Ocean Boulevard, Suite 4200, Long Beach, CA 90802. The public may also participate in the public hearing via conference line: 1-888-790-6181, passcode 47596.

Instructions: NMFS may not consider comments sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Chris Fanning, NMFS, West Coast Region, 562-980-4198.

SUPPLEMENTARY INFORMATION: NMFS is issuing a proposed rule under the authority of the Tuna Conventions Act of 1950, as amended (TCA), to implement the new regional vessel register (RVR) requirements in Resolution C-14-01 (Resolution (Amended) on a Regional Vessel Register) adopted by the IATTC at its June 2014 annual meeting. U.S. vessels that have been authorized to fish for tuna and tuna-like species in the IATTC Convention Area of the eastern Pacific Ocean must be included on the RVR. NMFS adds authorized vessels to the RVR by submitting vessel information to the Secretariat of the IATTC. The Convention Area includes the waters bounded by the coast of the Americas, the 50 °N. and 50 °S. parallels, and the 150 °W. meridian. The proposed rule would require that U.S. fishing vessels of 100 GRT (or 100 gross tonnage (GT)) or greater operating in the IATTC Convention Area obtain IMO numbers.

An IMO number is a unique vessel identifier that is permanently associated with the vessel hull, even if the vessel name changes or the vessel is reflagged to another nation. IMO numbers enable more effective tracking of vessels that may be engaging in IUU fishing. An estimated 120 U.S. vessels would be subject to this rule, of which approximately 90 percent already have an IMO number.

Resolution C-14-01 requires each member of the IATTC, including the United States, to maintain a record of its fishing vessels authorized to fish for tuna and tuna-like species in the IATTC Convention Area and to share the information in its record with the IATTC periodically for purposes of maintaining the RVR. In 2014, the IATTC decided to require an additional piece of information in members' records for fishing vessels of 100 GRT (or 100 gross tonnage (GT)) or greater: Either the IMO number or Lloyd's Register number. An IMO number, also known as an IMO ship identification number, is the number issued for a ship or vessel under the ship identification number scheme adopted by the IMO. As used in C-14-01, “Lloyd's Register number,” or “LR number,” has the same meaning as an IMO number except that an LR number refers to the number issued for a vessel not required to have an IMO number under IMO agreements. Accordingly, C-14-01 now requires IATTC members to ensure that IMO numbers or Lloyd's Register numbers are issued for such vessels. The administrator of the IMO ship identification number scheme issues both types of numbers using the same numbering scheme. Hereafter, “IMO number” is used to refer to both IMO numbers and Lloyd's Register numbers. IHS Maritime, located in Surrey, England, currently issues IMO numbers via their Web site at: http://www.imonumbers.lrfairplay.com/default.aspx.

For each of the subject fishing vessels, the proposed rule would require that the owner of the fishing vessel either ensure that an IMO number has been issued for the vessel or apply to NMFS for an exemption from the requirement. Resolution C-14-01 (at footnote 1) allows for an exemption from the IMO number requirement in extraordinary circumstances if the vessel owner has followed all appropriate procedures to obtain a number. In the event that a fishing vessel owner, after following the instructions given by the designated manager of the IMO ship identification number scheme, is unable to ensure that an IMO number is issued for the fishing vessel, the fishing vessel owner may request an exemption from the requirement from the West Coast Regional Administrator. Upon receipt of a request for an exemption, the West Coast Regional Administrator will assist the fishing vessel owner in requesting an IMO number. If the West Coast Regional Administrator determines that the fishing vessel owner has followed all appropriate procedures and yet is unable to obtain an IMO number for the fishing vessel, he or she will issue an exemption from the requirements for the vessel and its owner, and notify the owner of the exemption. NMFS notes that IHS Maritime is a private third party, and it is conceivable that an eligible vessel may not be able to complete the necessary steps and supply the required information, resulting in a denied vessel number request.

To minimize the burden on affected U.S. businesses, NMFS is not proposing to require that vessel owners report the IMO numbers associated with their vessel to NMFS. NMFS will collect that information via data available from the United States Coast Guard and IHS Maritime directly.

Classification

The NMFS Assistant Administrator has determined that this proposed rule is consistent with the TCA and other applicable laws, subject to further consideration after public comment.

This proposed rule has been determined to be not significant for purposes of Executive Order 12866.

Pursuant to the Regulatory Flexibility Act, 5 U.S.C. 605(b), the Chief Counsel for Regulation of the Department of Commerce certified to the Chief Counsel for Advocacy of the Small Business Administration that this action would not have a significant economic impact on a substantial number of small entities.

The small entities to which the proposed action would apply are all U.S. commercial fishing vessels that may target tuna and tuna-like species in the IATTC Convention Area. As of August 2015, there are 1,798 Pacific Highly Migratory Species permits. Of these, 118 vessels are 100 GRT or greater and 104 of the vessels have already been issued an IMO number. Thus, the proposed action would initially require 14 vessels to obtain IMO numbers. For these 14 vessels, the average annual revenue per vessel from all finfish fishing activities since 2010 has been $1.3 million, and less than $20.5 million when considering both an individual vessel or per vessel average. Complying with the IMO number requirement in this proposed action requires no out-of-pocket expenses because applications are free. The 30 minutes estimated to apply for an IMO number would not result in a significant opportunity cost to the fisherman considering it is a one-time occurrence for the life of the vessel hull. The rule is not expected to change fishery operations. Accordingly, the impact of this rule on the affected vessel owners' and operators' income is expected to be de minimis.

This proposed rule contains a collection-of-information requirement subject to the Paperwork Reduction Act (PRA), which has been approved by the Office of Management and Budget (OMB) under control numbers 0648-0387. A request for revision to account for the additional information that would be required pursuant this rule is under OMB review. Public reporting burden for obtaining an IMO number, or for making an IMO exemption request are each estimated to average 30 minutes per response, including the time for reviewing instructions, searching existing data sources, gathering and maintaining the data needed, and completing and reviewing the collection of information. Send comments regarding this burden estimate, or any other aspect of this data collection, including suggestions for reducing the burden, to NMFS (see ADDRESSES) and to Office of Information and Regulatory Affairs (OIRA_Submission@omb.eop.gov or fax to 202-395-7285).

Notwithstanding any other provision of the law, no person is required to respond to, nor shall any person be subject to a penalty for failure to comply with, a collection of information subject to the requirements of the PRA, unless that collection of information displays a currently valid OMB Control Number. All currently approved NOAA collections of information may be viewed at: http://www.cio.noaa.gov/services_programs/prasubs.html.

List of Subjects in 50 CFR Part 300

Administrative practice and procedure, Fish, Fisheries, Fishing, Marine resources, Vessels, Reporting and record keeping requirements, Treaties.

Dated: October 21, 2015.
Samuel D. Rauch III,
Deputy Assistant Administrator for Regulatory Programs, National Marine Fisheries Service.

For the reasons set out in the preamble, 50 CFR part 300, subpart C, is proposed to be amended as follows:

PART 300—INTERNATIONAL FISHERIES REGULATIONS

Subpart C—Eastern Pacific Tuna Fisheries

1. The authority citation for 50 CFR part 300, subpart C, continues to read as follows:

Authority: 16 U.S.C. 951 et seq.

2. In § 300.22, revise paragraph (b)(3) to read as follows:

§ 300.22 Eastern Pacific fisheries recordkeeping and written reports.

* * * * *

(b) * * *

(3) Vessel information. (i) Information on each commercial fishing vessel or CPFV authorized to use purse seine, longline, drift gillnet, harpoon, troll, rod and reel, or pole and line fishing gear to fish for tuna and tuna-like species in the Convention Area for sale shall be collected by the Regional Administrator to conform to IATTC resolutions governing the Vessel Register. This information initially includes, but is not limited to, the vessel name and registration number; the name and business address of the owner(s) and managing owner(s); a photograph of the vessel with the registration number legible; previous vessel name(s) and previous flag (if known and if any); port of registry; International Radio Call Sign; vessel length, beam, and moulded depth; gross tonnage, fish hold capacity in cubic meters, and carrying capacity in metric tons and cubic meters; engine horsepower; date and place where built; and type of fishing method or methods used. The required information shall be collected as part of existing information collections as described in this and other parts of the CFR.

(ii) IMO numbers. For the purpose of this section, an “IMO number” is the unique six or seven digit number issued for a vessel under the ship identification number scheme adopted by the International Maritime Organization (IMO) and managed by the entity identified by the IMO (currently IHS Maritime) and is also known as a Lloyd's Register number.

(iii) Requirement for IMO number. The owner of a fishing vessel of the United States used for commercial fishing for tuna and tuna-like species in the IATTC Convention Area shall ensure that an IMO number has been issued for the vessel if the vessel's Certificate of Documentation issued under 46 CFR part 67 indicates that the vessel's total internal volume is 100 gross register tons or greater. A vessel owner may request that an IMO number be issued for a vessel by following the instructions given by the administrator of the IMO ship identification number scheme; those instructions are currently available on the Web site of IHS Maritime.

(iv) Request for exemption. In the event that a fishing vessel owner, after following the instructions given by the designated manager of the IMO ship identification number scheme, is unable to ensure that an IMO number is issued for the fishing vessel, the fishing vessel owner may request an exemption from the requirement from the West Coast Regional Administrator. The request must be sent by mail to NMFS West Coast Region, 501 W. Ocean Blvd., Suite 4200, Long Beach, CA 90802, and must include the vessel's name, the vessel's official number, a description of the steps taken to request an IMO number, and a description of any responses from the administrator of the IMO ship identification number scheme.

(v) Exemption process. Upon receipt of a request for an exemption under paragraph (b)(3)(iv) of this section, the West Coast Regional Administrator will, to the extent he or she determines appropriate, assist the fishing vessel owner in requesting an IMO number. If the West Coast Regional Administrator determines that the fishing vessel owner has followed all appropriate procedures and yet is unable to obtain an IMO number for the fishing vessel, he or she will issue an exemption from the requirements of paragraph (b)(3)(iii) of this section for the vessel and its owner and notify the owner of the exemption. The West Coast Regional Administrator may limit the duration of the exemption. The West Coast Regional Administrator may rescind an exemption at any time. If an exemption is rescinded, the fishing vessel owner must comply with the requirements of paragraph (b)(3)(iii) of this section within 30 days of being notified of the rescission. If the ownership of a fishing vessel changes, an exemption issued to the former fishing vessel owner becomes void.

* * * * *

[FR Doc. 2015-27258 Filed 10-26-15; 8:45 am]

BILLING CODE 3510-22-P